FEDERAL COMMUNICATIONS COMMISSION

Technological Advisory Council

AGENCY: Federal Communications Commission.

ACTION: Notice of public meeting.

SUMMARY: In accordance with the Federal Advisory Committee Act, this notice advises interested persons of the final meeting of the Technological Advisory Council (“Council”) under its charter renewed as of November 19, 2004.

DATES: October 25, 2006 at 10 a.m. to 3 p.m.

ADDRESSES: Federal Communications Commission, 445 12th Street, SW., Commission Meeting Room (TW-C305), Washington, DC.

FOR FURTHER INFORMATION CONTACT: Jeffery Goldthorp, (202) 418-1096 (voice), (202) 418-2989 (TTY), or e-mail: Jeffery.Goldthorp@fcc.gov.

SUPPLEMENTARY INFORMATION: Increasing innovation and rapid advances in technology have accelerated changes in the ways that telecommunications services are provided to, and accessed by, users of communications services. The Federal Communications Commission must remain abreast of new developments in technologies and related communications to fulfill its responsibilities under the Communications Act. At this fifth and last meeting under the Council's new charter, the agenda topic will be: Broadband Access Technologies and Services.

The Federal Communications Commission will attempt to accommodate as many persons as possible. Admittance, however, will be limited to the seating available. Unless so requested by the Council's Chair, there will be no public oral participation, but the public may submit written comments to Jeffery Goldthorp, the Federal Communications Commission's Designated Federal Officer for the Technological Advisory Council, before the meeting. Mr. Goldthorp's e-mail address is Jeffery.Goldthorp@fcc.gov. Mail delivery address is: Federal Communications Commission, 445 12th Street, SW., Room 7-A325, Washington, DC 20554.

Federal Communications Commission.
Marlene H. Dortch,
Secretary.

[FR Doc. E6-17510 Filed 10-18-06; 8:45 am]

BILLING CODE 6712-01-P